ENVIRONMENTAL PROTECTION AGENCY

[Docket ID No. EPA-HQ-ORD-2018-0274; FRL-9979-56-ORD]

Review of the National Ambient Air Quality Standards for Ozone—Call for Scientific and Policy-Relevant Information

AGENCY: Environmental Protection Agency (EPA).

ACTION: Notice; call for information.

SUMMARY: The U.S. Environmental Protection Agency (EPA) is announcing that the Office of Air Quality Planning and Standards (OAQPS) and the Office of Research and Development's National Center for Environmental Assessment (NCEA) are preparing an Integrated Review Plan (IRP) and an Integrated Science Assessment (ISA) as part of the review of the air quality criteria and the National Ambient Air Quality Standards (NAAQS) for ozone (O3) and related photochemical oxidants. The IRP will summarize the plan for the review, including the initial identification of policy-relevant issues and questions to frame the review. The ISA will build on the scientific assessment conducted for the last O3 review, focusing on assessing newly available information since the last assessment. Interested parties are invited to assist the EPA by submitting information regarding significant new O3 research and policy-relevant issues for consideration in this review of the primary (health-based) and secondary (welfare-based) O3 standards.

DATES: All communications and information submitted in response to this call for information should be received by the EPA by August 27, 2018.

ADDRESSES: Submit your comments and related information, identified by Docket ID No. EPA-HQ-ORD-2018- 0274 to the Federal eRulemaking Portal: http://www.regulations.gov.

FOR FURTHER INFORMATION CONTACT: For information regarding the IRP, contact Dr. Deirdre L. Murphy, OAQPS, telephone: 919-541-0729, or email: murphy.deirdre@epa.gov. For information regarding the ISA, contact Dr. Tom Luben, NCEA, telephone: 919-541-5762, or email: luben.tom@epa.gov.

SUPPLEMENTARY INFORMATION:

I. Information About the Project

Section 108(a) of the Clean Air Act (CAA or the Act) directs the Administrator to identify and list certain air pollutants and then issue “air quality criteria” for those pollutants. The air quality criteria are to “accurately reflect the latest scientific knowledge useful in indicating the kind and extent of all identifiable effects on public health or welfare which may be expected from the presence of such pollutants in the ambient air . . . .” CAA section 108(a)(2). Under section 109 of the Act, EPA is then to establish NAAQS for each pollutant for which EPA has issued criteria. Section 109(d)(1) of the Act requires periodic review and, if appropriate, revision of existing air quality criteria to reflect advances in scientific knowledge on the effects of the pollutant on public health and welfare. Under the same provision, EPA is also to periodically review and, if appropriate, revise the NAAQS, based on the revised air quality criteria.

Section 109(d)(2) of the Act requires appointment of an independent scientific review committee that is to periodically review the existing air quality criteria and NAAQS and to recommend any new standards and revisions of existing criteria and standards as may be appropriate. Since the early 1980s, the requirement for an independent scientific review committee has been fulfilled by the Clean Air Scientific Advisory Committee (CASAC). Section 109(d)(2)(C) of the Act additionally requires the independent scientific review committee to advise the EPA Administrator of areas in which additional knowledge is required to appraise the adequacy and basis of existing, new, or revised NAAQS; describe the research efforts necessary to provide the required information; advise the EPA Administrator on the relative contribution to air pollution concentrations of natural as well as anthropogenic activity; and, advise the EPA Administrator of any adverse public health, welfare, social, economic, or energy effects which may result from various strategies for attainment and maintenance of such NAAQS. To ensure this final statutory requirement is fully met, elsewhere in today's Federal Register we are issuing a call for information that would facilitate the committee's consideration of these issues.

In its periodic review of the air quality criteria, the EPA reviews the currently available scientific information and prepares an ISA. The ISA and other key documents prepared in the review receive independent and expert scientific review by the CASAC.

Photochemical oxidants, including O3, are one of six “criteria” pollutants for which EPA has established NAAQS, and O3 is the current indicator for that NAAQS. The O3 NAAQS were most recently revised in fall of 2015. In consideration of the statutory deadline for the next periodic review of the air quality criteria and standards, the EPA is accelerating initiation of the planning phase for the review, including development of the IRP for the review. The IRP will describe the overall plan for the review, outlining the anticipated schedule, process, and approaches for evaluating the relevant scientific information, as well as the key policy-relevant issues that will frame the review. We intend that the IRP will build upon key documents from the last review (available from: https://www.epa.gov/naaqs/ozone-o3-air-quality-standards). Such documents include the preamble to the final rulemaking decision, which included detailed discussions of policy-relevant issues central to that review (80 FR 65292, October 26, 2015), and the Integrated Science Assessment (ISA) for Ozone and Related Photochemical Oxidants (Final Report, Feb. 2013), EPA/600/R-10/076F. Interested parties are invited to assist the EPA by submitting information regarding significant new O3 research and policy-relevant issues for consideration in this review of the primary (health-based) and secondary (welfare-based) O3 standards.

The EPA will consult with the CASAC on the IRP and will also solicit comments from the public. As the review proceeds, the EPA will also request CASAC review of, and provide an opportunity for public comment on, other draft documents prepared for the review, which generally include the ISA, a risk/exposure assessment (REA), as warranted, and a policy assessment (PA). The EPA intends to provide the CASAC with a standardized set of key charge questions to consider in providing advice to the Administrator throughout the entire review, supplementing these questions with more detailed requests as necessary. More information on the updated process for the forthcoming ozone NAAQS review, including statutory, standardized charge questions, is contained in the Administrator's May 9 2018 memorandum, “Back-to-Basics Process for Reviewing National Ambient Air Quality Standards.” ¹

¹ Available at: https://www.epa.gov/sites/production/files/2018-05/documents/image2018-05-09-173219.pdf.

The ISA will build on the scientific assessment for the last review,² focusing on assessing information newly available since the 2013 ISA. With regard to development of the ISA, the public is encouraged to assist in identifying relevant scientific information for the review by submitting research studies that were not part of the prior review, and have been published or accepted for publication in a peer-reviewed journal. The Agency is interested in obtaining newly available information, particularly concerning toxicological studies of effects of controlled exposure to O3 on laboratory animals, humans, and in vitro systems, as well as epidemiologic (observational) studies of health effects associated with ambient exposures of human populations to O3. The EPA also seeks recent information in other areas of O3 research such as chemistry and physics, sources and emissions, analytical methodology, transport and transformation in the environment, ambient concentrations, and effects on welfare ³ or the environment. This and other selected literature relevant to a review of the air quality criteria and NAAQS will be considered for inclusion in the forthcoming ISA. In addition to the request to submit current peer reviewed research studies, other opportunities for submission of new peer-reviewed, published (or in-press) papers will be available as part of the public comment period on the draft ISA that will be reviewed by the CASAC.

² The scientific assessment for the last review is documented in the Integrated Science Assessment for Ozone and Related Photochemical Oxidants (Final Report, Feb 2013), EPA 600/R-10/076F.

³ Under CAA section 302(h), effects on welfare include, but are not limited to, “effects on soils, water, crops, vegetation, manmade materials, animals, wildlife, weather, visibility, and climate, damage to and deterioration of property, and hazards to transportation, as well as effects on economic values and on personal comfort and wellbeing.”

II. How To Submit Information and Comments to the Docket at www.regulations.gov

Submit your comments and related information, identified by Docket ID No. EPA-HQ-ORD-2018-0274 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit http://www2.epa.gov/dockets/commenting-epa-dockets.

When submitting comments, remember to:

• Identify the action by docket number and other identifying information (subject heading, Federal Register date and page number).

• Describe any assumptions and provide any technical information and/or data that you used.

• Provide specific examples to illustrate your concerns, and suggest alternatives.

• Explain your views as clearly as possible, avoiding the use of profanity or personal threats.

• Make sure to submit your comments by the comment period deadline identified.

When considering submitting CBI, do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

Dated: June 12, 2018.
Mary Ross,
Deputy Director, National Center for Environmental Assessment.

[FR Doc. 2018-13716 Filed 6-25-18; 8:45 am]

BILLING CODE 6560-50-P